FEDERAL DEPOSIT INSURANCE CORPORATION

Agency Information Collection Activities: Submission for OMB Review; Comment Request; 3064-0097, 0134 & 0135

AGENCY: Federal Deposit Insurance Corporation (FDIC).

ACTION: Notice of information collections to be submitted to OMB for review and approval under the Paperwork Reduction Act of 1995.

SUMMARY: In accordance with requirements of the Paperwork Reduction Act of 1995 (44 U.S.C. 3501 et seq.), the FDIC hereby gives notice that it is submitting to the Office of Management and Budget (OMB) a request for OMB review and approval of the renewal or revision of the information collection systems described below.

DATES: Comments must be submitted on or before March 31, 2006.

ADDRESSES: Interested parties are invited to submit written comments on the collections of information entitled: (1) Interagency Notice of Change in Director or Executive Officer (3064-0097); (2) Customer Assistance (3064-0134); and Purchaser Eligibility Certification (3064-0135).

All comments should refer to the name and number of the collection. Comments may be submitted by any of the following methods:

• http://www.FDIC.gov/regulations/laws/federalnotices.html.

• E-mail: comments@fdic.gov. Include the name and number of the collection in the subject line of the message.

• Mail: Gary A. Kuiper (202.898.3877), Counsel, Federal Deposit Insurance Corporation, Suite 2100, 550 17th Street, NW., Washington, DC 20429.

• Hand Delivery: Comments may be hand-delivered to the guard station at the rear of the 550 17th Street Building (located on F Street), on business days between 7 a.m. and 5 p.m.

A copy of the comments may also be submitted to the OMB desk officer for the FDIC: Mark Menchik, Office of Information and Regulatory Affairs, Office of Management and Budget, New Executive Office Building, Room 10235, Washington, DC 20503.

FOR FURTHER INFORMATION CONTACT: Gary A. Kuiper, at the address identified above.

SUPPLEMENTARY INFORMATION:

Proposal To Renew or Revise the Following Currently Approved Collections of Information

1. Title: Interagency Notice of Change in Director or Executive Officer.

OMB Number: 3064-0097.

Frequency of Response: On occasion.

Affected Public: Business or other financial institutions.

Estimated Number of Respondents: 200.

Estimated Time per Response: 2 hours.

Total Annual Burden: 400 hours.

General Description of Collection: Certain insured state nonmember banks must notify the FDIC of the addition of a director or the employment of a senior executive officer.

2. Title: Customer Assistance.

OMB Number: 3064-0134.

Form: Customer Assistance Form, FDIC Form 6422/04.

Frequency of Response: On occasion.

Affected Public: Individuals, households, businesses and other financial institutions.

Estimated Number of Respondents: 5000.

Estimated Time per Response: 0.5 hours.

Total Annual Burden: 2,500 hours.

General Description of Collection: This collection permits the FDIC to collect information from customers of financial institutions who have inquiries or complaints about service.

3. Title: Purchaser Eligibility Certification.

OMB Number: 3064-0135.

Form: FDIC Form 7300/06.

Frequency of Response: On occasion.

Affected Public: Business or other financial institutions.

Estimated Number of Respondents: 2500.

Estimated Time per Response: 0.5 hours.

Total Annual Burden: 1250 hours.

General Description of Collection: FDIC uses the Purchaser Eligibility Certification to assure compliance with statutory restrictions on whom may purchase assets held by the FDIC. One change was to add to the prohibition against persons who were directors and officers of a failed institution from purchasing assets from the FDIC an extension to include not only the failed institution, but any affiliate of such institution, so as to comply with the applicable statute. The other change was to limit the prohibition against FDIC contractors from purchasing assets in connection with which they had performed services to three years, and to impose no limit if the FDIC service contract allowed for the purchase.

Request for Comment

Comments are invited on: (a) Whether these collections of information are necessary for the proper performance of the FDIC's functions, including whether the information has practical utility; (b) the accuracy of the estimate of the burden of the information collections, including the validity of the methodology and assumptions used; (c) ways to enhance the quality, utility, and clarity of the information to be collected; and (d) ways to minimize the burden of the information collections on respondents, including through the use of automated collection techniques or other forms of information technology. All comments will become a matter of public record.

Dated at Washington, DC, this 24th day of February, 2006.
Federal Deposit Insurance Corporation.
Carol L. Middlebrook,
Special Assistant to the Executive Secretary.

[FR Doc. 06-1916 Filed 2-28-06; 8:45 am]

BILLING CODE 6714-01-M